NUCLEAR REGULATORY COMMISSION

Advisory Committee on Reactor Safeguards Subcommittee Meeting on Thermal-Hydraulic Phenomena; Postponed

The meeting of the ACRS Subcommittee on Thermal-Hydraulic Phenomena scheduled to be held on August 17-18, 2004 in Room T-2B3, 11545 Rockville Pike, Rockville, Maryland has been postponed at the request of the NRC staff due to delays in the completion of certain technical reviews. Notice of this meeting was published in the Federal Register on Monday, July 26, 2004 (69 FR 44553). Rescheduling of this meeting will be announced in a future Federal Register Notice.

For further information contact: Mr. Ralph Caruso, cognizant ACRS staff engineer (telephone 301-415-8065) between 7:30 a.m. and 5 p.m. (ET) or by e-mail rxc@nrc.gov.

Dated: July 28, 2004.
Michael R. Snodderly,
Acting Associate Director for Technical Support, ACRS/ACNW.

[FR Doc. 04-17706 Filed 8-3-04; 8:45 am]

BILLING CODE 7590-01-P